DEPARTMENT OF LABOR

Employment and Training Administration

[TA-W-50,460]

VF Jeanswear, Limited Partnership, a Subsidiary of VF Corporation (Hawksbill Road Facility); Luray, VA; Notice of Termination of Investigation

Pursuant to section 221 of the Trade Act of 1974, as amended, an investigation was initiated on January 3, 2003, in response to a worker petition filed by a company official on behalf of workers at VF Jeanswear Limited Partnership, a subsidiary of VF Corporation, Hawksville Road Facility, Luray, Virginia.

The petitioning group of workers is covered by an active certification issued on February 15, 2002, for all workers of the subject firm in Luray, Virginia, which remains in effect (TA-W-40,736B). Consequently, further investigation in this case would serve no purpose, and the investigation has been terminated.

Signed in Washington, DC, this 10th day of January, 2003.
Linda G. Poole,
Certifying Officer, Division of Trade Adjustment Assistance.

[FR Doc. 03-2556 Filed 2-3-03; 8:45 am]

BILLING CODE 4510-30-P